DEPARTMENT OF THE INTERIOR

National Park Service

Extension of San Francisco Municipal Railway Historic Streetcar Service; Golden Gate National Recreation Area and San Francisco Maritime National Historical Park; County of San Francisco; Notice of Intent To Prepare an Environmental Impact Statement

SUMMARY: In accordance with section 102(2)(C) of the National Environmental Policy Act of 1969, and pursuant to the Council on Environmental Quality's regulations (40 CFR parts 1500-08), the National Park Service is initiating the conservation planning and environmental impact analysis process for the proposed extension of the northern waterfront Municipal Railway Historic Streetcar Service. Beginning at Fisherman's Wharf, this proposed railway extension would serve visitors to two popular units of the National Park System—San Francisco Maritime National Historical Park and the Fort Mason area of Golden Gate National Recreation Area. This project is being developed in close coordination with San Francisco Municipal Railway and other City and County of San Francisco planning and transportation agencies.

Background: A congressionally-mandated Travel Study completed in 1977 recommended restoring the historic rail link between the Hyde Street Pier and Fort Mason to improve access to various National Park Service (NPS) sites. The rail line was subsequently abandoned (1980), and the area between Hyde Street Pier and the Fort Mason tunnel entrance was designated a National Historic Landmark District in 1987 (which is now encompassed in the San Francisco Maritime National Historical Park created in 1988). Also, in the late 1980s Federal highway funds originally intended for extending Interstate 280 were reallocated to a number of alternative transportation facilities along the Embarcadero including creation of an historic streetcar line along Market Street and the Embarcadero to Fisherman's Wharf. In 2000 this service was extended to Fisherman's Wharf, only .85 miles from the public-serving facilities at Fort Mason Center. The popularity of the historic streetcars, which currently serve more than 20,000 passengers a day, has resulted in public and private interest in extending the service, with the creation of the E-Line to Fort Mason.

The Municipal Railway (MUNI) currently operates historic streetcar service on Market Street and along the San Francisco waterfront (F-Line) to the line's existing terminus at Jones Street and Beach (in the Fisherman's Wharf area). The E-Line extension would begin at the terminus of the F-line and extend west to San Francisco Maritime National Historical Park (NHP) and on to Fort Mason. The exact route has yet to be determined but would utilize either existing rail right-of-way routes confined to city streets or pass through NHP's Aquatic Park (at the core of the National Historic Landmark District) in order to reach the Fort Mason tunnel. It is anticipated that under all alternatives the railway line would extend through the tunnel and end in the area of lower Fort Mason.

The NHP is visited by approximately 4 million people annually and is currently served by very popular cable cars (often crowded at peak tourist times) as well as streetcar and bus lines. Fort Mason, home to the Fort Mason Center, houses more than 40 non-profit organizations offering more than 15,000 events a year and attracting upwards of 1.6 million visitors. The Fort Mason area is underserved by mass transit access, and as a result automobile-based visitation causes massive parking problems that affect surrounding neighborhoods. Furthermore, inadequate mass transit access makes it difficult for transit-dependent San Franciscans to enjoy the cultural and educational events offered at Fort Mason Center.

Development of Alternatives: At this time a full range of alternatives has not been confirmed. However, in order to be successful, any project selected would:

• Increase alternative transportation options for visitors to the NHP and Fort Mason;

• Serve a new cohesive recreation and cultural corridor along the northern waterfront;

• Enhance links for the City's lower-income population with all NPS sites and other northern waterfront attractions;

• Improve local and regional transit connectivity and decrease the need for automobile use and parking in historic and environmentally sensitive areas;

• Facilitate efforts to reduce the need for automobile-based trips to the National Historic Landmark District destinations by providing park visitors an attractive, non-polluting mass transit access;

• Avoid or minimize adverse effects on the National Historic Landmark District and related cultural and historic resources and waterfront values.

Scoping: This notice serves to formally open the public scoping comment phase for this planning process. The purpose of the scoping process is to elicit public comment on the proposed extension in order to inform the development of the Draft EIS. The public and interested organizations are encouraged to provide comment on issues and concerns, feasible alternatives, potential environmental effects and appropriate mitigation measures that would reduce project impacts. The public will have an initial opportunity to comment on the proposal by attending a public scoping meeting or providing written comments electronically via the internet or sending letters through the mail. All scoping comments must be postmarked or transmitted not later than 60 days after the publication of this Notice in the Federal Register—as soon as this ending date is confirmed, it will be announced on the project Web site (noted below).

The NPS anticipates hosting a public meeting in late March 2006 (complete information regarding this meeting will be posted on the project Web site). Following a short presentation regarding the project, the public will be given the opportunity to ask questions and provide comments to the planning team. The project Web site will provide the most up-to-date information regarding the project, including project description, planning process updates, meeting notices, reports and documents, and useful links associated with the project (the Web site is: http://parkplanning.nps.gov/goga; once at the site, click on project name and follow Web site instructions). Written comments should be mailed to the following address: Superintendent—GGNRA, Attn: Rick Foster, MUNI Railway Extension Project Manager, Fort Mason, Bldg. 201, San Francisco, CA 94123. In addition to the project Web site, project updates or requests to be included on the Draft EIS mailing list can be accommodated by contacting the MUNI Railway Extension Project Manager at (415) 561-4472.

It is the practice of the NPS to make all comments, including names and addresses of respondents who provide that information, available for public review following the conclusion of the NEPA process. Individuals may request that the NPS withhold their name and/or address from public disclosure. If you wish to do this, you must state this prominently at the beginning of your comment. Commenters using the Web site can make such a request by checking the box “keep my contact information private”. NPS will honor such requests to the extent allowable by law, but you should be aware that the NPS may still be required to disclose your name and address pursuant to the Freedom of Information Act.

Decision Process: At this time it is anticipated that the Draft EIS will be available for public review in early 2007. Availability of the Draft EIS document will be formally announced through the publication of a Notice of Availability in the Federal Register, through local and regional news media, via the project Web site, and direct mailing to the project mailing list. As a delegated EIS, the official responsible for the final decision regarding the proposed extension is the Regional Director, Pacific West Region. Subsequently the officials responsible for implementation will be the Superintendents of Golden Gate National Recreation Area and San Francisco Maritime National Historical Park.

Dated: March 20, 2006.
Jonathan B. Jarvis,
Regional Director, Pacific West Region.

[FR Doc. E6-4548 Filed 3-28-06; 8:45 am]

BILLING CODE 4312-FN-P